DEPARTMENT OF THE INTERIOR

Bureau of Ocean Energy Management

[Docket No. BOEM-2011-0058]

Commercial Leasing for Wind Power on the Outer Continental Shelf Offshore Maryland—Call for Information and Nominations

AGENCY: Bureau of Ocean Energy Management (BOEM), Interior.

ACTION: Call for Information and Nominations for Commercial Leases for Wind Power on the Outer Continental Shelf Offshore Maryland.

SUMMARY: In November 2010, the Bureau of Ocean Energy Management, Regulation and Enforcement, now BOEM, issued a Request for Interest (RFI) to gauge specific interest in obtaining commercial wind leases in an area on the Outer Continental Shelf (OCS) offshore Maryland. Based on the expressions of interest received in response to the RFI, BOEM has determined that competitive interest exists in the area identified. The publication of this Call for Information and Nominations (Call) initiates the competitive leasing process on the OCS offshore Maryland for the area identified herein.

The publication of this notice does not mean that BOEM will ultimately grant a lease to any particular party in the area identified offshore Maryland. Rather, the publication of this notice indicates that the area described may be subject to future leasing. BOEM is using this notice both to solicit any additional lease nominations and to request comments from interested and affected parties regarding site conditions, resources, and multiple uses of the area identified that would be relevant to BOEM's potential leasing and development authorization process. Parties wishing to submit a nomination in response to this Call should submit detailed and specific information as described in the section entitled, “Required Nomination Information.” The information that BOEM is requesting from the public is described in the section entitled, “Requested Information from Interested or Affected Parties.”

This notice is published pursuant to subsection 8(p)(3) of the OCS Lands Act, 43 U.S.C. 1337(p)(3), which was added by section 388 of the Energy Policy Act of 2005 (EPAct), as well as the implementing regulations at 30 CFR part 585.

The Call area described in this notice is located on the OCS offshore Maryland. The western edge of the Call is approximately 10 nautical miles (nmi) from the Ocean City, Maryland coast, and the eastern edge is approximately 23 nmi from the Ocean City, Maryland coast. The longest portion of the north/south portion is approximately 13 nmi in length and the longest portion of the east/west portion is approximately 13 nmi in length. This Call area was established in consultation with the BOEM Maryland Renewable Energy Task Force, and comments received in response to the RFI were considered when delineating the area. A detailed description of the area and its development is found later in this notice.

DATES: Nominations submitted in response to this notice must be postmarked no later than March 19, 2012. Submissions of comments or other submissions of information are also requested by this date.

Submission Procedures: If you are submitting a nomination for a lease in response to this Call, please submit your nomination by mail to the following address: Bureau of Ocean Energy Management, Office of Renewable Energy Programs, 381 Elden Street, Mail Stop HM 1328, Herndon, Virginia 20170. In addition to a paper copy of the nomination, include an electronic copy of the nomination on a compact disc (CD). Nominations must be postmarked by March 19, 2012. BOEM will list the parties that submitted nominations and the location of the proposed lease areas (OCS blocks they nominated) on the BOEM Web site after the 45-day comment period has closed.

Comments and other submissions of information may be submitted by either of the following two methods:

1. Federal eRulemaking Portal: http://www.regulations.gov. In the entry titled “Enter Keyword or ID,” enter BOEM-2011-0058, then click “search.” Follow the instructions to submit public comments and view supporting and related materials available for this notice.

2. By U.S. Postal Service or other delivery service, sending your comments and information to the following address: Bureau of Ocean Energy Management, Office of Renewable Energy Programs, 381 Elden Street, Mail Stop HM 1328, Herndon, Virginia 20170.

All responses will be reported on http://www.regulations.gov. If you wish to protect the confidentiality of your nominations or comments, clearly mark the relevant sections and request that BOEM treat them as confidential. Please label privileged or confidential information “Contains Confidential Information” and consider submitting such information as a separate attachment. Treatment of confidential information is addressed in the section of this Call entitled, “Protection of Privileged or Confidential Information.” Information that is not labeled as privileged or confidential will be regarded by BOEM as suitable for public release.

FOR FURTHER INFORMATION CONTACT: Aditi Mirani, Project Coordinator, BOEM, Office of Renewable Energy Programs, 381 Elden Street, Mail Stop HM 1328, Herndon, Virginia 20170, (703) 787-1320.

SUPPLEMENTARY INFORMATION:

Purpose of the Call for Information and Nominations

The OCS Lands Act requires BOEM to award leases competitively, unless BOEM makes a determination that there is no competitive interest (43 U.S.C. 1337(p)(3)). The purpose of this notice is to inform the public that BOEM has determined that competitive interest exists in the area identified, solicit any additional expressions of interest in obtaining a lease in the area identified, and request information from interested and affected parties on issues relevant to BOEM's review of nominations for potential leases in the area identified.

Background

Energy Policy Act of 2005

The EPAct amended the OCS Lands Act by adding subsection 8(p), which authorizes the Secretary of the Department of the Interior (DOI) to grant leases, easements, or rights-of-way (ROWs) on the OCS for activities that are not otherwise authorized by law and that produce or support production, transportation, or transmission of energy from sources other than oil or gas. Subsection 8(p) also requires the Secretary to issue regulations to carry out the new energy development authority on the OCS. The Secretary delegated the authority to issue such leases, easements, and ROWs, and to promulgate such regulations to the Director of BOEM. On April 29, 2009, BOEM promulgated the Renewable Energy and Alternate Uses (REAU) rule, at 30 CFR Part 585, which can be found at: http://www.boem.gov/UploadedFiles/FinalRenewableEnergyRule.pdf.

BOEM Maryland Renewable Energy Task Force

BOEM formed the BOEM Maryland Renewable Energy Task Force to facilitate coordination among relevant Federal agencies and affected state, local, and tribal governments throughout the leasing process. The BOEM Maryland Renewable Energy Task Force meeting materials are available on the BOEM web site at: www.boem.gov/Renewable-Energy-Program/State-Activities/Maryland.aspx

Executive Order 13547: Stewardship of the Ocean, Our Coasts, and the Great Lakes

On July 19, 2010, the President signed Executive Order 13547 establishing a national ocean policy and the National Ocean Council (75 FR 43023). The Order establishes a comprehensive, integrated national policy for the stewardship of the ocean, our coasts and the Great Lakes. Where BOEM actions affect the ocean, the Order requires BOEM to take such action as necessary to implement this policy, to adhere to the stewardship principles and national priority objectives adopted by the Order, and follow guidance from the National Ocean Council.

BOEM appreciates the importance of coordinating its planning endeavors with other OCS users and regulators and intends to follow the principles of coastal and marine spatial planning, and coordinate with the regional planning bodies as established by the National Ocean Council, to inform its leasing processes. BOEM anticipates that continued coordination with the State Renewable Energy Task Forces will help inform comprehensive coastal and marine spatial planning efforts.

Actions Taken by the State of Maryland in Support of Offshore Renewable Energy Development

BOEM recognizes the importance of the steps that the State of Maryland has taken to encourage and incentivize offshore wind energy development. While a state may promote such development through activities such as the creation of financial incentives, it is important to note that an offshore wind project cannot be sited on the OCS without an OCS renewable energy lease issued by BOEM pursuant to 30 CFR Part 585. Below is a description of the activities that the state has undertaken to support renewable energy development on the OCS off its coast.

The State of Maryland has engaged in a planning process to evaluate and determine areas of the OCS that may be suitable for offshore wind energy development. This process was intended to inform state recommendations to BOEM regarding potentially suitable areas for BOEM to consider when moving forward with its offshore wind energy leasing process.

Since 2009, the Maryland Department of Natural Resources (DNR) has been working with resource experts, user groups, The Nature Conservancy (TNC), Towson University and the Maryland Energy Administration (MEA) to compile data and information about habitats, human uses, and resources offshore Maryland. Using the state's foundation of ocean data and information, ocean planning tools were used to help identify areas most suitable for various types of activities to reduce the potential for conflict among uses, facilitate compatible uses, and reduce environmental impacts to preserve crucial ecosystem services. Information gathered through this state interagency marine spatial planning process allowed the development of the Maryland Coastal Atlas—a comprehensive internet-based tool that allows stakeholders to review the compiled data in an interactive format. The Maryland Coastal Atlas can be found at http://www.dnr.state.md.us/ccp/coastalatlas/ocean.asp.

In November 2009, the MEA issued a Request for Expressions of Interest and Information for the development of areas of the OCS offshore Maryland. The Request, which closed on March 1, 2010, called for information about areas considered most desirable for offshore wind energy development and comment on what technologies were most appropriate for the geophysical conditions present in this area of the OCS. Additionally, information was requested on what policies and incentives would be most helpful for the development of offshore wind energy in this area.

In addition to providing input to the BOEM Maryland Renewable Energy Task Force, Maryland State agencies have continued to conduct outreach to stakeholders. In April 2010, DNR and MEA conducted two open houses to allow citizens to ask questions and provide feedback. Experts from both agencies and project partners were on hand to answer questions and provide information about ocean mapping and planning, offshore wind, prospective project timelines, anticipated processes and opportunities for community response. In addition, MEA and DNR conducted comprehensive outreach to Ocean City and other coastal communities to gather input on potential viewshed impact and share information on planning processes.

To inform the state recommendations to BOEM during the planning and leasing process, the DNR has maintained a dialogue with the recreational and commercial fishing sectors to collect more detailed information about fishing use areas. Information about general recreational and commercial fishing use areas, more specific pot and trawl fishing areas, and other fishing use and offshore renewable wind energy concerns is being collected. DNR has conducted outreach through: (1) Existing Fishery Advisory Committees; (2) discussions with DNR's Fisheries Service regarding fishing tournaments and specific fishing industries; (3) individual commercial fishing mapping meetings; (4) phone calls with affected individuals; and (5) mailed mapping charts.

At the March 23, 2011, BOEM Maryland Task Force meeting the MEA requested the formation of a Marine Transportation, Navigation and Safety working group to specifically address commercial shipping, navigation and safety concerns associated with the development of offshore wind resources off the coast of Maryland. The working group met on May 11, 2011, to discuss possible leasing areas and the various potential implications for maritime safety and navigation matters. Additionally, MEA staff has participated in stakeholder-led discussions on these issues. After extensive consultation with the Maryland Department of Transportation, the Maryland Port Administration and other interested stakeholders, the working group's discussions informed the recommendation of state agencies to BOEM regarding the geographical area described in this Call.

Department of the Interior “Smart from the Start” Atlantic Wind Initiative

Secretary of the Interior Ken Salazar announced the “Smart from the Start” OCS renewable energy initiative on November 23, 2010. This initiative includes three key elements: (1) Eliminating a redundant step from the REAU rule; (2) the identification of Wind Energy Areas (WEA) to be analyzed in an Environmental Assessment (EA) (prepared pursuant to the National Environmental Policy Act (NEPA) (42 U.S.C. 4321 et seq.)) for the purpose of supporting lease issuance with associated site characterization and site assessment activities; and (3) proceeding on a parallel track to process offshore transmission proposals.

A WEA is an OCS area that appears to be most suitable for commercial wind energy leasing. The area that was included in the Maryland RFI, published in November 2010, was designated as the WEA in February 2011 (76 FR 7226 (Feb. 9, 2011)). A map showing the WEA can be found on the BOEM Web site at: www.boem.gov/Renewable-Energy-Program/Smart-from-the-start/index.aspx.

As described in the section of this notice entitled, “Development of the RFI and Call Area” this area has been further refined based upon input from the BOEM Maryland Renewable Energy Task Force, the United States Coast Guard (USCG), and other stakeholders who commented on the original RFI and the Notice of Intent (NOI) to Prepare an EA for the “Smart from the Start” WEAs (76 FR 7226 (Feb. 9, 2011)). The Maryland WEA may be further adjusted in response to comments and information received from this notice as well as future notices.

Publication of RFI and Responses Received

The first step in determining whether there is competitive interest in acquiring commercial wind energy leases in the WEA on the OCS offshore Maryland was the issuance of an RFI in November 2010. By the close of the comment period for the RFI, BOEM received nine expressions of interest from eight individual entities. A table showing the parties and the OCS blocks nominated for leasing can be found at: www.boem.gov/UploadedFiles/TableSummarizingMDRFI012011.pdf. Of the eight entities that submitted nominations, two entities nominated the entire area described in the RFI.

BOEM also received comments from members of the public as well as state and Federal agencies in response to the RFI. Most of the comments discussed shipping and navigational concerns. Two comments focused on the impacts of commercial wind lease development on fishing interests. The comments received in response to the RFI can be found at: http://www.boem.gov/Renewable-Energy-Program/State-Activities/Maryland.aspx.

Competitive Leasing Process

The following are the next steps in the competitive leasing process after this Call:

(1) Proposed Sale Notice (PSN): BOEM publishes a PSN in the Federal Register and sends the PSN to the Governor of any affected state, any affected tribes, and the executive of any local government that might be affected. The PSN describes the areas that BOEM has decided to offer for leasing and the proposed terms and conditions of a lease sale, including the proposed auction format, lease form, and lease provisions. Additionally, the PSN describes the criteria and process for evaluating bids. The PSN is issued after preparation of various analyses of proposed lease sale terms and conditions. The comment period following the issuance of a PSN is 60 days.

(2) Final Sale Notice: BOEM publishes the Final Sale Notice (FSN) in the Federal Register at least 30 days before the date of the sale. BOEM may use one of the following three auction formats to select the winning bidder(s): Sealed bidding; ascending bidding; or two-stage bidding (a combination of ascending bidding and sealed bidding). BOEM publishes the criteria for winning bid determinations in the FSN.

(3) Bid Submission and Evaluation: Following publication of the FSN in the Federal Register, qualified bidders may submit their bids to BOEM in accordance with procedures specified in the FSN. The bids, including the bid deposits if applicable, are reviewed for technical and legal adequacy. BOEM evaluates each bid to determine if the bidder has complied with all applicable regulations. BOEM reserves the right to reject any or all bids and the right to withdraw an offer to lease an area from the sale.

(4) Issuance of a Lease: Following the selection of a winning bid(s) by BOEM, the submitter(s) is notified of the decision and provided a set of official lease documents for execution. The successful bidder(s) is required to execute the lease, pay the remainder of the bonus bid, if applicable, and file the required financial assurance within 10 days of receiving the lease copies. Upon receipt of the required payments, financial assurance, and properly executed lease forms, BOEM issues a lease to the successful bidder(s).

Pursuant to 30 CFR 585.212, BOEM may decide to end the competitive leasing process prior to the publication of a FSN if it believes that competitors have withdrawn and competitive interest no longer exists. This would require BOEM to publish an additional notice in the Federal Register to confirm that competitive interest no longer exists in the area. BOEM would use the information received in response to this additional notice to determine whether we would continue with the competitive lease sale process or initiate the non-competitive lease negotiation process.

Environmental Reviews

BOEM has prepared an EA considering the environmental impacts and socioeconomic effects of issuing renewable energy leases (which includes reasonably foreseeable site characterization activities—geophysical, geotechnical, archeological, and biological surveys—on those leases) in identified WEAs offshore New Jersey, Delaware, Maryland, and Virginia. The EA also considers the reasonably foreseeable environmental impacts and socioeconomic effects associated with the approval of site assessment activities (including the installation and operation of meteorological towers and buoys) on the leases that may be issued. The Commercial Wind Lease Issuance and Site Assessment Activities on the Atlantic Outer Continental Shelf Offshore New Jersey, Delaware, Maryland, and Virginia Environmental Assessment (Regional EA) can be found at: www.boem.gov/Renewable-Energy-Program/Smart-from-the-start/index.aspx.

The area identified in this Call matches the Maryland area described in the preferred alternative in the Regional EA.

In the event that a lease is issued in the area identified offshore Maryland, and the lessee submits a Site Assessment Plan (SAP) pursuant to 30 CFR 585.605-618, BOEM will consider whether the regional NEPA analysis adequately analyzed all the reasonably foreseeable environmental consequences associated with the activities proposed in the lessee's SAP. If BOEM determines that the existing NEPA document adequately analyzed these consequences, then no further NEPA analysis would be required before BOEM may approve the SAP. If the NEPA analysis is inadequate or there is new information, additional NEPA review would be conducted before the SAP could be approved.

If and when a lessee is ready to construct and operate a specific renewable energy facility on the lease, it would submit a Construction and Operations Plan (COP) pursuant to 30 CFR 585.601 and 620-638. Pursuant to 30 CFR 585.626, a lessee must submit certain site characterization and site assessment information with its COP. Once a COP is submitted for a particular project, BOEM will prepare a separate NEPA analysis evaluating the reasonably foreseeable environmental consequences of the activities described in the COP. This would likely take the form of an Environmental Impact Statement (EIS), which would provide additional opportunities for public involvement. The NEPA review conducted for the COP would provide Federal, state, local, and tribal officials and the public with comprehensive site- and project-specific information regarding potential environmental impacts of the project activities. These potential impacts would be taken into account prior to BOEM deciding whether to approve, approve with modification, or disapprove the COP.

Development of the Call Area

The Call area was delineated by BOEM in consultation with the BOEM Maryland Renewable Energy Task Force, and is intended to minimize user conflicts while making an appropriate area available for commercial offshore wind energy development. Specific mitigation, stipulations, or exclusion areas may be developed and applied at the leasing, site assessment, and/or the construction and operations stages as a result of environmental reviews and associated consultations, as well as continued coordination through the BOEM Maryland Renewable Energy Task Force. Issues discussed during consultation with the BOEM Maryland Renewable Task Force, and OCS areas where site-specific stipulations may be required, are described below.

Initially, the MEA and the DNR proposed to BOEM an area consisting of 45 whole OCS blocks for consideration as an RFI area. As described earlier in the section entitled, “Actions Taken by the State of Maryland in Support of Renewable Energy Development,” this area reflected DNR's consideration of numerous factors, including shipping lanes, artificial reefs, wind speed, water depths, Assateague Island proposed wilderness, sand mining shoals, initial fisheries stakeholder feedback, waterbird habitat and density, onshore electric transmission systems, and wind energy developer interest. As a result of consultations with the BOEM Maryland Renewable Energy Task Force, and input from the Department of Defense (DoD) and DNR, BOEM excluded from the area certain blocks that were included in the area originally proposed by MEA and DNR. The DoD identified 15 blocks located in the southern part of this area as a “Wind Energy Exclusion Area” and recommended that those blocks be removed from consideration mainly due to DoD testing and training activities conducted in these blocks. Further, the DNR recommended that 6 blocks located in the southwest portion of the area be removed from consideration, because of the existence of bird concentrations, summer fishing tournaments and boating corridors, recreational and sport-fishing, ship wrecks, important fishing grounds, artificial reefs, natural corals, and unique benthic habitats in these blocks. Based on the input of both the DoD and the DNR, BOEM reduced the size of the area that was originally put forward by the DNR and MEA, and published the resulting area in the RFI.

Navigational safety issues that were raised at the initial BOEM Maryland Renewable Energy Task Force meetings were acknowledged in the RFI. The notice provided an explanation of the USCG's concerns about renewable energy leasing in the area identified and acknowledged that the RFI area may need to be modified in consideration of these issues. Twenty two blocks were highlighted for particular consideration of USCG concerns. The RFI can be found on BOEM's Web site at: http://www.boem.gov/uploadedFiles/BOEM/Renewable_Energy_Program/State_Activities/FederalRegisterdocument.pdf under Docket Number BOEM-2010-0038.

The comment period for the RFI closed on January 10, 2011. Based on public comments received in response to the RFI and engagement with the BOEM Maryland Renewable Energy Task Force, BOEM determined that revisions to the RFI area were appropriate. In particular, BOEM decided that, based on an evaluation conducted by USCG, using best available information, as well as comments received from the maritime and shipping industry, certain areas identified in the RFI would not be suitable for inclusion in this leasing initiative at this time, as described below.

Navigational Issues

The USCG has provided the following information for consideration by potential respondents to this Call and other interested parties. The USCG has a responsibility to ensure the safety of navigation under the Ports and Waterways Safety Act (PWSA). The PWSA requires the USCG to provide safe access routes for the movement of vessel traffic proceeding to or from ports or places subject to the jurisdiction of the United States. This is accomplished through designation of necessary fairways and traffic separation schemes (TSS) for vessels operating in the territorial sea of the United States and in high sea approaches, outside the territorial sea. The USCG may also determine that establishment of other ships' routing measures would enhance navigational safety, and it works with its Federal interagency and International Maritime Organization partners to establish these voluntary measures as necessary.

The potential for navigational safety risk posed by building structures in proximity to shipping routes is affected by numerous factors including, but not limited to: vessel size, vessel type, density of traffic, prevailing conditions, cumulative impact of multiple obstructions (for example, wind assessment or development facilities), existence of multiple shipping routes (for example, crossing or meeting situations), radar/automatic radar plotting aid (ARPA) interference, and existence of mitigating factors such as navigational aids, vessel traffic services, or pilotage.

Currently, there is no standard recommended separation distance between offshore renewable energy facilities and shipping routes. The USCG has reviewed guidance published by other countries such as the United Kingdom's Maritime Guidance Note MGN-371 and consulted with its own waterways subject matter experts. Currently, the USCG considers that the placement of offshore wind assessment and generation facilities in any area less than 1 nmi from traditional shipping routes poses a high risk to navigational safety and therefore does not recommend placement of offshore renewable energy facilities in such areas. The USCG considers placement of such wind facilities in areas greater than 5 nmi from existing shipping routes to pose minimal risk to navigational safety. Areas considered for placement of wind facilities between 1 nmi and 5 nmi would require additional USCG analysis to determine if mitigation factors could be applied to bring navigational safety risk within acceptable levels. Respondents to this Call should note that impacts to radar and ARPA may still occur outside of 1 nmi and will have to be evaluated along with other potential impacts. The above are only planning guidelines and may be changed based on the completion of the Atlantic Coast Port Access Route Study (ACPARS) which is described below. In addition, these guidelines may be further modified upon completion of a Navigational Safety Risk Assessment (NSRA) that may be required before BOEM approves construction of any offshore renewable energy facilities.

The USCG is conducting an ACPARS to determine how best to route traffic on the Atlantic coast. (See Federal Register 76 FR 27288; May 11, 2011). This study will better inform the USCG about the navigational safety risks, if any, associated with construction of offshore renewable energy facilities. The data gathered during this ACPARS may result in the establishment of new vessel routing measures, modification of existing routing measures, or removal of some existing routing measures off the Atlantic Coast from Maine to Florida.

As a member of the BOEM Maryland Renewable Energy Task Force, the USCG partnered with BOEM to gather existing Automated Information System (AIS) data, stakeholder input, and information on existing traffic patterns and historical and current coastwise and international uses in the area offshore Maryland. The USCG conducted an evaluation, using the best available information, of the Maryland RFI area. The USCG identified OCS blocks (including sub-blocks) that, if developed, may have an unacceptable effect on navigational safety, and other OCS blocks (including sub-blocks) that would require further study to determine the potential effect that the installation of wind facilities in these blocks would have on navigational safety.

The USCG has advised BOEM that, at this time, all blocks included in the Call area may be appropriate for leasing and potential development. However, the USCG also recommended that our two agencies work together to further evaluate all blocks included in the Call area with regard to: (1) Existing traffic usage and patterns, (2) projected future traffic increases in the area based on the development of nearby blocks, and (3) the potential for modifications to existing routing measures and the possible creation of new routing measures in the area. The USCG will collect data that is relevant to these issues during the development of the ACPARS that USCG will share with BOEM as it becomes available. This additional information will also help the USCG determine what, if any, risks exist and whether USCG will amend its initial recommendation that all blocks included in the Call area appear to be appropriate for leasing and prospective development. Any additional evaluation will also inform the USCG's recommendations for potential mitigation measures for any blocks that may be made available for leasing.

Department of Defense (DoD) Activities

The DoD conducts offshore testing, training, and operations in the majority of the Call area. Site specific stipulations may be necessary at the leasing and/or development stages to avoid and minimize conflicts with existing DoD activities in most of the lease blocks included in the Call area. A list of these lease blocks is included in a table in the section entitled, “Description of the Call Area.” BOEM will continue to consult with the DoD regarding potential issues concerning offshore testing, training, and operational activities, and will use best management practices to develop appropriate stipulations to avoid conflicts with DoD within the Call area.

Description of the Call Area

The Call area offshore Maryland contains 9 whole OCS blocks and 11 partial blocks. The western edge of the Call area is approximately 10 nmi from the Ocean City, Maryland coast, and the eastern edge is approximately 23 nmi from the Ocean City, Maryland coast. The longest portion of the north/south portion is approximately 13 nmi in length and the longest portion of the east/west portion is approximately 13 nmi in length. The entire area is approximately 94.04 square nautical miles; 79,706 acres; or 32,256 hectares. The boundary of the Call area follows the points listed in the table below in clockwise order. Point numbers 1 and 35 are the same. Coordinates are provided in X, Y (eastings, northings) UTM Zone 18N, NAD 83 and geographic (longitude, latitude), NAD83.

Point No. | X (Easting) | Y (Northing) | Longitude | Latitude
1 | 512000 | 4257600 | −74.862445 | 38.466634
2 | 519200 | 4257600 | −74.779913 | 38.466508
3 | 519200 | 4256400 | −74.779946 | 38.455693
4 | 520400 | 4256400 | −74.766193 | 38.455666
5 | 520400 | 4254000 | −74.766263 | 38.434037
6 | 521600 | 4254000 | −74.752513 | 38.434009
7 | 521600 | 4252800 | −74.752550 | 38.423194
8 | 522800 | 4252800 | −74.738803 | 38.423165
9 | 522800 | 4251600 | −74.738842 | 38.412350
10 | 524000 | 4251600 | −74.725097 | 38.412319
11 | 524000 | 4249200 | −74.725179 | 38.390689
12 | 525200 | 4249200 | −74.711438 | 38.390656
13 | 525200 | 4248000 | −74.711481 | 38.379842
14 | 526400 | 4248000 | −74.697742 | 38.379807
15 | 526400 | 4245600 | −74.697832 | 38.358178
16 | 527600 | 4245600 | −74.684098 | 38.358142
17 | 527600 | 4244400 | −74.684144 | 38.347327
18 | 528800 | 4244400 | −74.670412 | 38.347289
19 | 528800 | 4242000 | −74.670510 | 38.325660
20 | 530000 | 4242000 | −74.656781 | 38.325620
21 | 530000 | 4240800 | −74.656832 | 38.314806
22 | 531200 | 4240800 | −74.643106 | 38.314765
23 | 531200 | 4238400 | −74.643212 | 38.293135
24 | 532400 | 4238400 | −74.629489 | 38.293093
25 | 532400 | 4237200 | −74.629544 | 38.282278
26 | 533600 | 4237200 | −74.615824 | 38.282234
27 | 533600 | 4234800 | −74.615938 | 38.260604
28 | 534800 | 4234800 | −74.602222 | 38.260559
29 | 534800 | 4233600 | −74.602281 | 38.249744
30 | 519200 | 4233600 | −74.780567 | 38.250213
31 | 519200 | 4238400 | −74.780437 | 38.293472
32 | 514400 | 4238400 | −74.835327 | 38.293562
33 | 514400 | 4240800 | −74.835278 | 38.315192
34 | 512000 | 4240800 | −74.862732 | 38.315227
35 | 512000 | 4257600 | −74.862445 | 38.466634

The following 9 whole OCS blocks are included within the Call area: Salisbury NJ18-05 Blocks 6624, 6674, 6724, 6774, 6725, 6775, 6825, 6776, 6826. In addition, parts of the following 11 OCS blocks are included within the Call area: Salisbury NJ18-05 Blocks 6623, 6625, 6673, 6675, 6676, 6723, 6726, 6773, 6777, 6827 and 6828.

List of OCS Blocks Included in the Call Area
Protraction name | Protraction No. | Block No. | Sub block
Salisbury | NJ18-05 | 6623 | C,D,G,H,K,L,O,P.
Salisbury | NJ18-05 | 6624 | A,B,C,D,E,F,G,H,I,J,K,L,M,N,O,P.
Salisbury | NJ18-05 | 6625 | E, I, M ,N.
Salisbury | NJ18-05 | 6673 | C,D,G,H,K,L,O,P.
Salisbury | NJ18-05 | 6674 | A,B,C,D,E,F,G,H,I,J,K,L,M,N,O,P.
Salisbury | NJ18-05 | 6675 | A,B,C,E,F,G,H,I,J,K,L,M,N,O,P.
Salisbury | NJ18-05 | 6676 | M.
Salisbury | NJ18-05 | 6723 | C,D,G,H,K,L,O,P.
Salisbury | NJ18-05 | 6724 | A,B,C,D,E,F,G,H,I,J,K,L,M,N,O,P.
Salisbury | NJ18-05 | 6725 | A,B,C,D,E,F,G,H,I,J,K,L,M,N,O,P.
Salisbury | NJ18-05 | 6726 | A,B,E,F,I,J,K,M,N,O,P.
Salisbury | NJ18-05 | 6773 | C,D,G,H.
Salisbury | NJ18-05 | 6774 | A,B,C,D,E,F,G,H,I,J,K,L,M,N,O,P.
Salisbury | NJ18-05 | 6775 | A,B,C,D,E,F,G,H,I,J,K,L,M,N,O,P.
Salisbury | NJ18-05 | 6776 | A,B,C,D,E,F,G,H,I,J,K,L,M,N,O,P.
Salisbury | NJ18-05 | 6777 | E,I,J,M,N.
Salisbury | NJ18-05 | 6825 | A,B,C,D,E,F,G,H,I,J,K,L,M,N,O,P.
Salisbury | NJ18-05 | 6826 | A,B,C,D,E,F,G,H,I,J,K,L,M,N,O,P.
Salisbury | NJ18-05 | 6827 | A,B,C,E,F,G,H,I,J,K,L,M,N,O,P.
Salisbury | NJ18-05 | 6828 | M.

List of OCS Blocks in the Call Area With Potential Stipulations

The USCG advises that all blocks included in the Call area require further study to determine risks to navigational safety. It is possible that OCS blocks included in the Call area may not be made available for leasing and/or development. If the entire Call area were to be made available for leasing and development, portions of a number of sub-blocks may not be available for surface occupancy, (i.e. the placement of wind facilities), because of proximity to the TSS. These sub-blocks are listed in the table below.

Protraction name | Protraction No. | Block No. | Sub block
Salisbury | NJ18-05 | 6624 | D,H.
Salisbury | NJ18-05 | 6625 | E, I, N.
Salisbury | NJ18-05 | 6675 | B,C,G,H,L,P.
Salisbury | NJ18-05 | 6676 | M.
Salisbury | NJ18-05 | 6726 | A,B,F,J,K,O,P.
Salisbury | NJ18-05 | 6776 | D,H.
Salisbury | NJ18-05 | 6777 | E,I,J,N.
Salisbury | NJ18-05 | 6827 | B,C,G,H,L,P.
Salisbury | NJ18-05 | 6828 | M.

To avoid conflicts with existing DoD activities, site specific stipulations may be necessary in the following lease blocks.

Protraction name | Protraction No. | Block No. | Sub block
Salisbury | NJ18-05 | 6624 | All Sub blocks.
Salisbury | NJ18-05 | 6625 | All Sub blocks.
Salisbury | NJ18-05 | 6674 | All Sub blocks.
Salisbury | NJ18-05 | 6675 | All Sub blocks.
Salisbury | NJ18-05 | 6676 | All Sub blocks.
Salisbury | NJ18-05 | 6724 | All Sub blocks.
Salisbury | NJ18-05 | 6725 | All Sub blocks.
Salisbury | NJ18-05 | 6726 | All Sub blocks.
Salisbury | NJ18-05 | 6774 | All Sub blocks.
Salisbury | NJ18-05 | 6775 | All Sub blocks.
Salisbury | NJ18-05 | 6776 | All Sub blocks.
Salisbury | NJ18-05 | 6777 | All Sub blocks.
Salisbury | NJ18-05 | 6825 | All Sub blocks.
Salisbury | NJ18-05 | 6826 | All Sub blocks.
Salisbury | NJ18-05 | 6827 | All Sub blocks.
Salisbury | NJ18-05 | 6623 | C,D,G,H,K,L,O,P.
Salisbury | NJ18-05 | 6673 | C,D,G,H,K,L,O,P.
Salisbury | NJ18-05 | 6723 | C,D,G,H,K,L,O,P.
Salisbury | NJ18-05 | 6773 | C,D,G,H.

Map of the Call Area

A map of the Call area can be found at: www.boem.gov/Renewable-Energy-Program/State-Activities/Maryland.aspx.

A large scale map of the Call area showing boundaries of the area with numbered blocks is available from BOEM at the following address: Bureau of Ocean Energy Management, Office of Renewable Energy Programs, 381 Elden Street, Mail Stop HM 1328, Herndon, Virginia 20170. Phone: (703) 787-1320, Fax: (703) 787-1708.

Required Nomination Information

If you intend to submit a nomination for a commercial wind energy lease in the area(s) identified in this notice, you must provide the following information. If you have already submitted this information in response to the RFI, there is no need to re-submit these materials in response to this Call. If you wish to modify any information submitted in response to the RFI, including the area described in your submission, you may do so in response to this Call.

(1) The BOEM Protraction name, number, and specific whole or partial OCS blocks within the Call area that are of interest for commercial wind leasing, including any required buffer area. This information should be submitted as a spatial file compatible with ArcGIS 9.3 in a geographic coordinate system (NAD 83) in addition to your hard copy submittal. If your proposed lease area includes one or more partial blocks, please describe those partial blocks in terms of a sixteenth (i.e. sub-block) of an OCS block. BOEM will not consider any areas outside of the Call area in this process;

(2) A description of your objectives and the facilities that you would use to achieve those objectives;

(3) A preliminary schedule of proposed activities, including those leading to commercial operations;

(4) Available and pertinent data and information concerning renewable energy resources and environmental conditions in the area that you wish to lease, including energy and resource data and information used to evaluate the Call area. Where applicable, spatial information should be submitted in a format compatible with ArcGIS 9.3 in a geographic coordinate system (NAD 83);

(5) Documentation demonstrating that you are legally qualified to hold a lease as set forth in 30 CFR 585.106 and 107. Examples of the documentation appropriate for demonstrating your legal qualifications and related guidance can be found in Chapter 2 and Appendix B of the BOEM Renewable Energy Framework Guide Book available at: http://www.boem.gov/Renewable-Energy-Program/Regulatory-Information/Index.aspx. Legal qualification documents will be placed in an official file that may be made available for public review. If you wish that any part of your legal qualification documentation be kept confidential, clearly identify what should be kept confidential, and submit it under separate cover (see “Protection of Privileged or Confidential Information Section,” below); and

(6) Documentation demonstrating that you are technically and financially capable of constructing, operating, maintaining and decommissioning the facilities described in (2) above. Guidance regarding the required documentation to demonstrate your technical and financial qualifications can be found at: http://www.boem.gov/Renewable-Energy-Program/Regulatory-Information/Index.aspx.

Documentation you submit to demonstrate your legal, technical, and financial qualifications must be provided to BOEM in both paper and electronic formats. BOEM considers an Adobe PDF file stored on a compact disc (CD) to be an acceptable format for submitting an electronic copy.

It is critical that you submit a complete nomination so that BOEM may evaluate your submission in a timely manner. If BOEM reviews your nomination and determines that it is incomplete, BOEM will inform you of this determination in writing. This letter will describe the information that BOEM determined to be missing from your nomination, and that you must submit in order for BOEM to deem your submission complete. You will be given 15 business days from the date of that letter to submit the information that BOEM found to be missing from your original submission. If you do not meet this deadline, or if BOEM determines this second submission is insufficient and has failed to complete your nomination, then BOEM retains the right to deem your nomination invalid. In such a case, BOEM will not process your nomination.

It is not required that you submit a nomination in response to this Call if you intend to submit a bid in the potential lease sale offshore Maryland. However, you would not be able to participate in this lease sale unless, prior to the sale, you had been legally qualified to hold a BOEM renewable energy lease, and you had demonstrated that you are technically and financially capable of constructing, operating, maintaining and decommissioning the facilities you would propose to install on your lease. To ensure that BOEM has sufficient time to process your qualifications package, BOEM requests that you submit this package during the PSN 60-day public comment period. Failure to meet this deadline makes it unlikely that you would be able to participate in this lease sale. More information can be found at: http://www.boem.gov/Renewable-Energy-Program/Regulatory-Information/Index.aspx.

Requested Information From Interested or Affected Parties

BOEM is requesting from the public and other interested or affected parties specific and detailed comments regarding the following:

(1) Geological and geophysical conditions (including bottom and shallow hazards) in the area described in this notice;

(2) Known archeological and/or cultural resource sites on the seabed in the area described in this notice;

(3) Historic properties potentially affected by the construction of meteorological towers, the installation of meteorological buoys, or commercial wind development in the area identified in this Call;

(4) Multiple uses of the area, including navigation (in particular, commercial and recreational vessel use), recreation, and fisheries (commercial and recreational); and

(5) Other relevant socioeconomic, biological, and environmental information.

The Maryland Call Area has been identified as an area where commercial and recreational fishing occurs. During the comment period for the Maryland RFI, BOEM received comments with regard to commercial fishing. Specifically, the comments noted that the RFI area is fished and navigated by scallop, surfclam, quahog, fluke, squid, purse seine, and otter trawl fishers. In light of the comments received, BOEM is interested in obtaining input from the fishing industry in its planning process. Therefore, BOEM encourages the fishing industry to submit, in response to this Call, any potential concerns they would like prospective developers to address in their future plans and applications to BOEM.

In addition, the waters off Maryland's coast are home to a variety of natural coral and other bottom-dwelling communities, including relatively rare and ecologically vital live, hard bottom patch habitats. These habitats may require special attention during the siting and construction phases of wind turbines. This Call is soliciting information that can be used to characterize and map these communities.

Protection of Privileged or Confidential Information

Freedom of Information Act

BOEM will protect privileged or confidential information that you submit as required by the Freedom of Information Act (FOIA). Exemption 4 of FOIA applies to trade secrets and commercial or financial information that you submit that is privileged or confidential. If you wish to protect the confidentiality of such information, clearly mark it and request that BOEM treat it as confidential. BOEM will not disclose such information, subject to the requirements of FOIA. Please label privileged or confidential information “Contains Confidential Information” and consider submitting such information as a separate attachment.

However, BOEM will not treat as confidential any aggregate summaries of such information or comments not containing such information. Additionally, BOEM will not treat as confidential (1) the legal title of the nominating entity (for example, the name of your company), or (2) the list of whole or partial blocks that you are nominating. Finally, information that is not labeled as privileged or confidential will be regarded by BOEM as suitable for public release.

Section 304 of the National Historic Preservation Act (16 U.S.C. 470w-3(a))

BOEM is required, after consultation with the Secretary, to withhold the location, character, or ownership of historic resources if it determines that disclosure may, among other things, risk harm to the historic resources or impede the use of a traditional religious site by practitioners. Tribal entities should designate information that falls under Section 304 of NHPA as confidential.

Dated: December 2, 2011.
Tommy P. Beaudreau,
Director, Bureau of Ocean Energy Management.

[FR Doc. 2012-2497 Filed 2-2-12; 8:45 am]

BILLING CODE 4310-VH-P